FEDERAL RESERVE SYSTEM

A De Novo Corporation To Do Business Under Section 25A of the Federal Reserve Act

An application has been submitted for the Borad's approval of the organization of a corporation to do business under section 25A of the Federal AReserve Act (Edge Corporation) 12 U.S.C. § 611 et seq. The factors that are to be considered in acting on the application are set forth in the Board's Regulation K (12 CFR 211.5).

The application may be inspected at the Federal Reserve Bank of San Francisco or at the Board of Governors. Any comment on an application that requests a hearing must include a statement of why a written presentation would not suffice in lieu of a hearing, identify specifically any questions of fact that are in dispute, and summarize the evidence that would be presented at a hearing.

Comments regarding the application my be received by the Reserve Bank indicated or at the offices of the Board of Governors not later than February 23, 2004.

A. Federal Reserve Bank of San Francisco (Tracy Basinger, Director, Regional and Community Bank Group) 101 Market Street, San Francisco, California 94105-1579:

1. Zions First National Bank, Salt Lake City, Utah; to establish Zions Bank International, Las Vegas, Nevada, as an Edge Corporation, and a wholly owned subsidiary, Van der Moolen UK Limited, pursuant to section 25A of the Federal Reserve Act.

Board of Governors of the Federal Reserve System, January 23, 2004.
Robert deV. Frierson,
Deputy Secretary of the Board.

[FR Doc. 04-1894 Filed 1-28-04; 8:45 am]

BILLING CODE 6210-01-S